DEPARTMENT OF DEFENSE

Office of the Secretary

Federal Advisory Committee; Military Leadership Diversity Commission

AGENCY: Department of Defense (DoD).

ACTION: Charter modification.

SUMMARY: Under the provisions of section 596 of Public Law 110-417, the Federal Advisory Committee Act of 1972, (5 U.S.C. Appendix), the Government in the Sunshine Act of 1976 (5 U.S.C. 552b), and 41 CFR 102-3.65, the Department of Defense established the Military Leadership Diversity Commission (hereafter referred to as the Commission) on January 15, 2009. The requirement for the Commission remains; however, section 594 of Public Law 111-84 modified the Commission's membership by adding six additional members.

FOR FURTHER INFORMATION CONTACT: Jim Freeman, Deputy Committee Management Officer for the Department of Defense, 703-601-6128.

SUPPLEMENTARY INFORMATION: The six additional members include—(a) An active commissioned officer from the National Guard, and an active commissioned officer from the Reserves, each of whom serves or has served in a leadership position with either a Military Department command or combatant command; (b) a retired general or flag officer from the National Guard, and a retired general or flag officer from the Reserves; and (c) a retired noncommissioned officer from the National Guard, and a retired noncommissioned officer from the Reserves.

The additional members, as with the original members, shall be appointed for the life of the Commission. Any vacancy in the commission shall be filled in the same manner as the original appointment.

With the exception of the representatives of the U.S. Coast Guard, the Secretary of Defense shall appoint the commission members. Commission members appointed by the Secretary of Defense, who are not full-time or permanent part-time employees of the federal government, shall be appointed as experts and consultants under the authority of 5 U.S.C. 3109, and these individuals shall serve as special government employees.

Pursuant to 41 CFR 102-3.105(j) and 102-3.140, the public or interested organizations are reminded that they may submit written statements to the Military Leadership Diversity Commission membership about the commission's mission and functions. Written statements may be submitted at any time or in response to the stated agenda of planned meeting of the Military Leadership Diversity Commission.

All written statements shall be submitted to the Designated Federal Officer for the Military Leadership Diversity Commission, and this individual will ensure that the written statements are provided to the membership for their consideration. Contact information for the Military Leadership Diversity Commission's Designated Federal Officer, once appointed, may be obtained from the GSA's FACA Database— https://www.fido.gov/facadatabase/public.asp.

The Designated Federal Officer, pursuant to 41 CFR 102-3.150, will announce planned meetings of the Military Leadership Diversity Commission. The Designated Federal Officer, at that time, may provide additional guidance on the submission of written statements that are in response to the stated agenda for the planned meeting in question.

Dated: January 15, 2010.
Mitchell S. Bryman,
Alternate OSD Federal Register Liaison Officer, Department of Defense.

[FR Doc. 2010-1046 Filed 1-20-10; 8:45 am]

BILLING CODE 5001-06-P